DEPARTMENT OF TRANSPORTATION

Federal Aviation Administration

14 CFR Part 39

[Docket No. FAA-2007-27687; Directorate Identifier 2000-NE-42-AD; Amendment 39-16144; AD 2009-26-09]

RIN 2120-AA64

Airworthiness Directives; General Electric Company CF34-1A, -3A, -3A1, -3A2, -3B, and -3B1 Turbofan Engines; Correction

AGENCY: Federal Aviation Administration (FAA), DOT.

ACTION: Final rule; correction.

SUMMARY: The FAA is correcting airworthiness directive (AD) 2009-26-09, which published in the Federal Register. That AD applies to General Electric Company (GE) CF34-1A, -3A, -3A1, -3A2, -3B, and -3B1 turbofan engines. The GE alert service bulletin (ASB) numbers CF34-AL S/B 72 A0212, CF34-AL S/B 72 A0234, and CF34-AL S/B 72 A0235 in the regulatory section are incorrect. This document corrects those ASB numbers. In all other respects, the original document remains the same.

DATES: This correction is May 20, 2010. The compliance date of AD 2009-26-09 remains February 11, 2010.

FOR FURTHER INFORMATION CONTACT: John Frost, Aerospace Engineer, Engine Certification Office, FAA, Engine & Propeller Directorate, 12 New England Executive Park, Burlington, MA 01803; e-mail: john.frost@faa.gov; phone: (781) 238-7756; fax: (781) 238-7199.

SUPPLEMENTARY INFORMATION: On January 7, 2010 (75 FR 910), we published a final rule AD, FR Doc, E9-30471, in the Federal Register. That AD applies to (GE) CF34-1A, -3A, -3A1, -3A2, -3B, and -3B1 turbofan engines. We need to make the following corrections:

§ 39.13 [Corrected]

1. On page 914, in the second column, in paragraph (k)(1)(i), in the fifth and eighth lines, “CF34-AL” is corrected to read “CF34-BJ”.

2. On page 914, in the second column, in paragraph (k)(2)(iii), in the fifth line, “CF34-AL” is corrected to read “CF34-BJ”.

3. On page 914, in the second column, in paragraph (l), in the seventh line, “CF34-AL” is corrected to read “CF34-BJ”.

4. On page 914, in the second column, in paragraph (l)(1), in the second line, “CF34-AL” is corrected to read “CF34-BJ”.

5. On page 914, in the third column, in paragraph (l)(1)(i), in the seventh and tenth lines, “CF34-AL” is corrected to read “CF34-BJ”.

6. On page 914, in the third column, in paragraph (m)(1), in the second, ninth, and twelfth lines, “CF34-AL” is corrected to read “CF34-BJ”.

Issued in Burlington, Massachusetts, on May 10, 2010.
Peter A. White,
Assistant Manager, Engine and Propeller Directorate, Aircraft Certification Service.

[FR Doc. 2010-11642 Filed 5-19-10; 8:45 am]

BILLING CODE 4910-13-P